OFFICE OF PERSONNEL MANAGEMENT

5 CFR Part 9501

RIN 3206-AL02

Office of Personnel Management Criteria for Internal Revenue Service Broadbanding Systems

AGENCY: Office of Personnel Management.

ACTION: Notice of proposed rulemaking; withdrawal.

SUMMARY: The Office of Personnel Management (OPM) hereby withdraws a notice of proposed rulemaking (NPRM) regarding the criteria governing the Internal Revenue Service (IRS) broadbanding systems, published in the Federal Register April 17, 2007. OPM has determined withdrawal of the NPRM is appropriate as it would be impractical to issue this rule at this time.

DATES: Effective Date: The proposed rule, published on April 17, 2007, in the Federal Register (72 FR 19126), is withdrawn as of October 31, 2014.

FOR FURTHER INFORMATION CONTACT: Jennifer Melvin, Senior Human Resources Specialist, Office of Personnel Management, Employee Services, Pay and Leave, Room 7H31, 1900 E Street NW., Washington, DC 20415. Email: jennifer.melvin@opm.gov; Telephone: (202) 606-2858; or Facsimile: (202) 606-0824.

SUPPLEMENTARY INFORMATION:

Background

Under 5 U.S.C. 9509, the Secretary of the Treasury may, under criteria prescribed by the Office of Personnel Management (OPM), establish one or more broadbanding systems covering all or any portion of the Internal Revenue Service (IRS) workforce that would otherwise be covered by the General Schedule (GS) pay and classification system. OPM published its criteria for IRS broadbanding systems as a final notice in the Federal Register on December 19, 2000 (65 FR 79433) and the criteria in that notice are still in effect.

On April 17, 2007, OPM issued a Notice of Proposed Rulemaking (NPRM) in the Federal Register (72 FR 19126) to amend title 5, Code of Federal Regulations, to establish a new chapter XCV and part 9501 providing revised criteria for IRS broadbanding systems. The proposed regulations would have provided the Department of the Treasury with the flexibility, in coordination with OPM, to establish broader bands for covered IRS employees and would have established a more direct relationship between pay and performance. The proposed regulations would have also revised the criteria consistent with changes in the GS pay administration rules made by the Federal Workforce Flexibility Act of 2004 and OPM implementing regulations.

The comment period for the NPRM closed on June 18, 2007. OPM received and considered all five written comments in response to the NPRM. Comments were received from one Federal agency, one labor organization, two professional associations, and one individual. The following is a general overview of the comments OPM received during the public comment period raised in connection with the merits of the proposed rule.

The comments received were varied. The main items of concern included the role of labor organizations in applying the IRS broadbanding system authority and OPM criteria, the maximum number of grades that may be combined into a band, the requirements and flexibilities for providing various within-band pay adjustments, performance ratings and the IRS performance management system, limitations on the maximum rates of pay for bands, and the flexibility to establish control points that limit salary progression within bands. Several commenters also asked for clarification regarding the language used in various parts of the proposed rule.

Office of Personnel Management.
Katherine Archuleta,
Director.

[FR Doc. 2014-25902 Filed 10-30-14; 8:45 am]

BILLING CODE 6325-39-P